DEPARTMENT OF COMMERCE

National Oceanic and Atmospheric Administration

RIN 0648-XD003

DEPARTMENT OF THE INTERIOR

Bureau of Reclamation

Fish and Wildlife Service

[FWS-R8-ES-2013-N252]

Bay Delta Habitat Conservation Plan and Natural Community Conservation Plan, Sacramento, CA; Draft Environmental Impact Report/Environmental Impact Statement, Receipt of Applications; Extension of Comment Period

AGENCY: National Marine Fisheries Service, National Oceanic and Atmospheric Administration, Commerce; Fish and Wildlife Service and Bureau of Reclamation, Interior.

ACTION: Notice of availability; extension of comment period.

SUMMARY: The National Marine Fisheries Service, Bureau of Reclamation, and the Fish and Wildlife Service are extending the comment period on the Draft Bay Delta Conservation Plan and Natural Community Conservation Plan (BDCP, or the Plan) and Draft BDCP Environmental Impact Report/Environmental Impact Statement (EIR/EIS). In response to public requests, the comment period is being extended for an additional 60 days.

DATES: Comments on the Draft BDCP and Draft EIR/EIS must be received or postmarked by 5 p.m. Pacific Time on June 13, 2014.

ADDRESSES: To view or download the Draft BDCP and Draft EIR/EIS, or for a list of locations to view hardbound copies, go to www.baydeltaconservationplan.com.

You may submit written comments by one of the following methods:

1. By email: Submit comments to bdcp.comments@noaa.gov.

2. By hard-copy: Submit comments by U.S. mail, or by hand-delivery, to Ryan Wulff, National Marine Fisheries Service, 650 Capitol Mall, Suite 5-100, Sacramento, CA 95814.

FOR FURTHER INFORMATION CONTACT: Ryan Wulff, National Marine Fisheries Service, 916-930-3733; Lori Rinek, Fish and Wildlife Service, 916-930-5652; or Theresa Olson, Bureau of Reclamation, 916-414-2433.

SUPPLEMENTARY INFORMATION: The comment period is being extended for the jointly issued Draft Bay Delta Conservation Plan (BDCP) and Natural Community Conservation Plan and Draft BDCP Environmental Impact Report/Environmental Impact Statement (EIR/EIS). On December 13, 2013, a 120-day public comment period was opened through notification in the Federal Register (78 FR 75939). In response to requests from the public, the comment period is being extended for an additional 60 days. The comment period will now officially close on June 13, 2014, at 5 p.m. Pacific Time. A draft Implementing Agreement is still under preparation and will be made available to the public for review and comment in mid 2014. It will be posted at www.baydeltaconservationplan.com as soon as it is available.

Background

For background information, see the December 13, 2013, Federal Register notice (78 FR 75939).

Public Comments

Submitting comments to the email and hard-copy addresses identified in the ADDRESSES section of this notice will constitute effective filing of the California Environmental Quality Act comments on the EIR portion of the EIR/EIS. The National Marine Fisheries Service, Bureau of Reclamation, and the Fish and Wildlife Service are furnishing this notice to allow other agencies and the public an extended opportunity to review and comment on these documents. All comments received will become part of the public record for this action.

Public Disclosure

Before including your address, phone number, email address, or other personal identifying information in your comment, you should be aware that your entire comment—including your personal identifying information—may be made publicly available at any time. While you may ask us in your comment to withhold your personal identifying information from public review, we cannot guarantee that we will be able to do so.

Dated: March 24, 2014.
Angela Somma,
Chief, Endangered Species Conservation Division, Office of Protected Resources, National Marine Fisheries Service.
Dated: February 27, 2014.
Paul McKim,
Acting Deputy Regional Director, Pacific Southwest Region, Fish and Wildlife Service.
Dated: March 13, 2014.
Pablo R. Arroyave,
Deputy Regional Director, Mid-Pacific Region, Bureau of Reclamation.

[FR Doc. 2014-06805 Filed 3-26-14; 8:45 am]

BILLING CODE 3510-22-P; 4310-MN-P; 4310-55-P